DEPARTMENT OF COMMERCE

Foreign-Trade Zones Board

[Docket T-3-2012]

Foreign-Trade Zone 126—Reno, NV; Application for Temporary/Interim Manufacturing Authority, Brightpoint North America L.P. (Cell Phone Kitting and Distribution), Reno, NV

An application has been submitted to the Executive Secretary of the Foreign-Trade Zones Board (the Board) by the Economic Development Authority of Western Nevada, grantee of FTZ 126, requesting temporary/interim manufacturing (T/IM) authority within 126 at the Brightpoint North America L.P. (Brightpoint) facility, located in Reno, Nevada. The application was filed on March 2, 2012.

The Brightpoint facility (80 employees, 5.87 acres, 20 million units annual capacity) is located at 1025 Sandhill Road, Reno (Site 23). Under T/IM procedures, the company has requested authority to produce cell phone kits (HTSUS 8517.12, 8517.69, duty free). Foreign components that would be used in production (representing 70-90% of the value of the finished product) include power supplies (8504.40, 8504.50, 8504.90), nicad batteries (8507.80), lithium batteries (8507.30), cellular phone sets (8517.11), video phones (8517.18), base stations (8517.61), voice, data and image regeneration machines (8517.62), microphones (8518.10), answering machines (8519.50), video recorders (8521.10, 8521.90), answering machine and video recorder components (8522.10, 8522.90), transceivers (8525.60), monitors and projectors (8528.41, 8528.49, 8528.51, 8528.59, 8528.71, 8528.72, 8528.73), transceiver, monitor and projector parts and accessories (8529.10, 8529.90), thermionic, cathode and photocathode tubes (8540.11, 8540.12, 8540.20, 8540.40, 8540.50, 8540.60, 8540.71, 8540.72, 8540.79, 8540.81, 8540.89, 8540.91, 8540.99), cables (8544.42), connectors and plugs (8536.69), decals (3919.90), plastic holsters (3926.90), leather carrying cases (4202.31), leather pouches (4202.91), plastic carrying cases (4202.92), leather straps (4205.00), wrist straps (6307.90), key pads with connectors (8537.10), external speaker sets (8518.22), headsets with microphones (8518.30), and hands-free speaker kits (8518.90). Duty rates for the imported components range from free to 20%. T/IM authority could be granted for a period of up to two years.

FTZ procedures could exempt Brightpoint from customs duty payments on the foreign components used in export production. The company anticipates that up to 10 percent of the plant's shipments could be exported. On its domestic sales, Brightpoint would be able to choose the duty rates during customs entry procedures that apply to cell phone kits (duty free) for the foreign inputs noted above.

In accordance with the Board's regulations, Christopher Kemp of the FTZ Staff is designated examiner to evaluate and analyze the facts and information presented in the application and case record and to report findings and recommendations pursuant to Board Orders 1347 and 1480.

Public comment is invited from interested parties. Submissions (original and 3 copies) shall be addressed to the Board's Executive Secretary at the following address: Office of the Executive Secretary, Foreign-Trade Zones Board, U.S. Department of Commerce, Room 2111, 1401 Constitution Ave. NW., Washington, DC 20230. The closing period for their receipt is April 9, 2012.

Brightwood has also submitted a request to the FTZ Board for FTZ manufacturing authority beyond a two-year period, which may include additional products and components. It should be noted that the request for extended authority would be docketed separately and would be processed as a distinct proceeding. Any party wishing to submit comments for consideration regarding the request for extended authority would need to submit such comments pursuant to the separate notice that would be published for that request.

A copy of the application will be available for public inspection at the Office of the Foreign-Trade Zones Board's Executive Secretary at the address listed above, and in the “Reading Room” section of the Board's Web site, which is accessible via www.trade.gov/ftz. For further information, contact Christopher Kemp at Christopher.Kemp@trade.gov or (202) 482-0862.

Dated: March 2, 2012.
Andrew McGilvray,
Executive Secretary.

[FR Doc. 2012-5697 Filed 3-7-12; 8:45 am]

BILLING CODE P